DEPARTMENT OF ENERGY

Federal Energy Regulatory Commission

Combined Notice of Filings

Take notice that the Commission has received the following Natural Gas Pipeline Rate and Refund Report filings:

Filings Instituting Proceedings

Docket Number: PR19-9-000.

Applicants: Lobo Pipeline Company LLC.

Description: Tariff filing per 284.123(b)(1)+(g): Certification of Unchanged State Rate Election of Lobo Pipeline Company LLC to be effective 9/30/2018.

Filed Date: 10/18/18.

Accession Number: 201810185042.

Comments Due: 5 p.m. ET 11/8/18.

284.123(g) Protests Due: 5 p.m. ET 12/17/18.

Docket Numbers: RP19-121-000.

Applicants: Bison Pipeline LLC.

Description: § 4(d) Rate Filing: Bison Exit Fees Filing to be effective 11/25/2018.

Filed Date: 10/25/18.

Accession Number: 20181025-5099.

Comments Due: 5 p.m. ET 11/6/18.

Docket Numbers: RP19-122-000.

Applicants: Natural Gas Pipeline Company of America.

Description: § 4(d) Rate Filing: Negotiated Rate Agreement_CapacityRelease Macquarie to be effective 10/25/2018.

Filed Date: 10/25/18.

Accession Number: 20181025-5110.

Comments Due: 5 p.m. ET 11/6/18.

Docket Numbers: RP19-123-000.

Applicants: Natural Gas Pipeline Company of America.

Description: § 4(d) Rate Filing: Amendment to Negotiated Rate Filing—to be effective 11/1/2018.

Filed Date: 10/26/18.

Accession Number: 20181026-5000.

Comments Due: 5 p.m. ET 11/7/18.

Docket Numbers: RP19-124-000.

Applicants: Algonquin Gas Transmission, LLC.

Description: § 4(d) Rate Filing: Negotiated Rates—Boston Gas 510807 Releases to be effective 11/1/2018.

Filed Date: 10/26/18.

Accession Number: 20181026-5015.

Comments Due: 5 p.m. ET 11/7/18.

Docket Numbers: RP19-125-000.

Applicants: Algonquin Gas Transmission, LLC.

Description: § 4(d) Rate Filing: AGT—Bay State releases effective 11/1/2018.

Filed Date: 10/26/18.

Accession Number: 20181026-5016.

Comments Due: 5 p.m. ET 11/7/18.

Docket Numbers: RP19-126-000.

Applicants: Midwestern Gas Transmission Company.

Description: Compliance filing 2017-2018 Cashout Report.

Filed Date: 10/26/18.

Accession Number: 20181026-5022.

Comments Due: 5 p.m. ET 11/7/18.

Docket Numbers: RP19-127-000.

Applicants: Kern River Gas Transmission Company.

Description: § 4(d) Rate Filing: 2018 Housekeeping to be effective 11/26/2018.

Filed Date: 10/26/18.

Accession Number: 20181026-5049.

Comments Due: 5 p.m. ET 11/7/18.

Docket Numbers: RP19-129-000.

Applicants: Natural Gas Pipeline Company of America.

Description: § 4(d) Rate Filing: Amendment to Negotiated Rate Agreement—Tenaska Marketing Ventures to be effective 11/1/2018.

Filed Date: 10/26/18.

Accession Number: 20181026-5110.

Comments Due: 5 p.m. ET 11/7/18.

Docket Numbers: RP19-130-000.

Applicants: Midwestern Gas Transmission Company.

Description: Compliance filing 2017-2018 Gas Sales and Purchases Report.

Filed Date: 10/26/18.

Accession Number: 20181026-5124.

Comments Due: 5 p.m. ET 11/7/18.

Docket Numbers: RP19-131-000.

Applicants: Viking Gas Transmission Company.

Description: Compliance filing 2017-2018 Gas Sales and Purchases Report.

Filed Date: 10/26/18.

Accession Number: 20181026-5129.

Comments Due: 5 p.m. ET 11/7/18.

Docket Numbers: RP19-132-000.

Applicants: Guardian Pipeline, L.L.C.

Description: Compliance filing 2017-2018 Gas Sales and Purchases Report.

Filed Date: 10/26/18.

Accession Number: 20181026-5133.

Comments Due: 5 p.m. ET 11/7/18.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 29, 2018.
Nathaniel J. Davis, Sr.,
Deputy Secretary.

[FR Doc. 2018-24026 Filed 11-1-18; 8:45 am]

BILLING CODE 6717-01-P